DEPARTMENT OF HEALTH AND HUMAN SERVICES

National Institutes of Health

Center for Scientific Review; Amended Notice of Meeting

Notice is hereby given of a change in the meeting of the Center for Scientific Review Special Emphasis Panel, June 21, 2001, 8:30 a.m. to June 22, 2001, 6 p.m., River Inn, 924 25th Street, NW., Washington, DC, 20037 which was published in the Federal Register on June 12, 2001, 66 FR 31683-31685.

The meeting will be one day only June 21, 2001. The time and location remain the same. The meeting is closed to the public.

Dated: June 18, 2001.
LaVerne Y. Stringfield,
Director, Office of Federal Advisory Committee Policy.

[FR Doc. 01-15768 Filed 6-21-01; 8:45 am]

BILLING CODE 4140-01-M